DEPARTMENT OF TRANSPORTATION

Federal Aviation Administration

Notice of Approval of Finding of No Significant Impact (FONSI) on a Final Environmental Assessment (Final EA) for Proposed Federal Actions at Aurora Municipal Airport, Aurora, IL

AGENCY: Federal Aviation Administration (FAA), DOT.

ACTION: Notice of approval of documents.

SUMMARY: The Federal Aviation Administration (FAA) is issuing this notice to advise the public of the approval of a Finding of No Significant Impact (FONSI) on an Environmental Assessment for proposed Federal actions at Aurora Municipal Airport, Aurora, Illinois. The FONSI specifies that the proposed Federal actions and local development projects are consistent with existing environmental policies and objectives as set forth in the National Environmental Policy Act of 1969 and will not significantly affect the quality of the environment.

A description of the proposed Federal actions is: (a) To issue an environmental finding to allow approval of the Airport Layout Plan (ALP) for the development items listed below; (b) Approval of the Airport Layout Plan (ALP) for the development items listed below; and (c) Establish eligibility of the City of Aurora to compete for Federal funding for the development projects contemplated on the Airport Layout Plan.

The specific items in the local airport development project include: Land acquisition of 96 acres in fee simple title, including relocation assistance for one (1) residence; assess for reimbursement approximately 83 acres of land previously acquired in fee simple title including relocation assistance for two (2) residences; acquire approximately 2.4 acres of aviation easement; construct, light and mark new Runway 9L-27R at 3,200′ x 75′; construct, light and mark parallel and connecting taxiways to new Runway 9L-27R; construct, light and mark a 75′ x 250′ extension to Runway 18 and a 75′ x 400′ extension to Runway 36, including grading and drainage; construct, light and mark parallel and connecting taxiways to Runway 18-36 extensions; rehabilitate and overlay existing Runway 18-36; construct northern partial parallel taxiway to existing Runway 9-27, including connectors; relocate a portion of Dugan Road; construct northeastern development area access roads; install CAT I ILS, including a MALSR, to create a Standard Instrument Approach Procedure (SIAP) to Runways 15 & 33; install Visual Approach Decent Indicator (VADI) lights to Runways 9L & 27R; relocate Visual Approach Decent Indicator (VADI) lights and Runway End Identifier Lights (REIL) for Runaways 18 & 36; construct general aviation development areas including apron, hangars, taxiways, entrance road, auto parking, etc. in southwestern, western, northern and northeastern airport areas, including detention; mitigate the impact of approximately 0.77 acres of wetlands and construct detention areas to mitigate approximately 17 acres of potential floodplain encroachment and obtain airport layout plan approval.

Copies of the environmental decision and the Final EA are available for public information review during regular business hours at the following locations:

1. Aurora Municipal Airport, 43W636 U.S. 30, Sugar Grove, IL 60554-9619.

2. Division of Aeronautics—Illinois Department of Transportation, One Langhorne Bond Drive, Capital Airport, Springfield, IL 62707.

3. Chicago Airports District Office, Room 312, Federal Aviation Administration, 2300 East Devon Avenue, Des Plaines, Illinois 60018.

FOR FURTHER INFORMATION CONTACT: E. Lindsay Butler, Airports Environmental Program Manager, Federal Aviation Administration, Chicago Airports District Office, Room 312, 2300 East Devon Avenue, Des Plains, Illinois 60018. Ms. Butler can be contacted at (847) 294-7723 (voice), (847) 294-7046 (facsimile) or by E-Mail at lindsay.butler@faa.gov.

Issued in Des Plaines, Illinois, on April 23, 2004.
Philip M. Smithmeyer,
Manager, Chicago Airports District Office, FAA, Great Lakes Region.

[FR Doc. 04-10124 Filed 5-3-04; 8:45 am]

BILLING CODE 4910-13-M